NUCLEAR REGULATORY COMMISSION

[Docket Nos. (as shown in Attachment 1); License Nos. (as shown in Attachment 1); EA-03-039]

All Operating Power Reactor Licensees; Order Modifying Licenses (Effective Immediately)

The licensees identified in Attachment 1 to this Order hold licenses issued by the U.S. Nuclear Regulatory Commission (NRC or Commission) authorizing operation of nuclear power plants in accordance with the Atomic Energy Act of 1954 (the Act) and Title 10 of the Code of Federal Regulations (10 CFR) part 50. Commission regulations at 10 CFR 50.54(p)(1) require these licensees to maintain safeguards contingency plan procedures in accordance with 10 CFR part 73, Appendix C. Specific safeguards requirements for reactors are contained in 10 CFR 73.55.

On September 11, 2001, terrorists simultaneously attacked targets in New York City, NY, and Washington, DC, utilizing large commercial aircraft as weapons. In response to the attacks and intelligence information subsequently obtained, the Commission issued a number of Safeguards and Threat Advisories to its licensees in order to strengthen licensees' capabilities and readiness to respond to a potential attack on a nuclear facility. On February 25, 2002, the Commission issued Orders to the licensees of operating power reactors to put the actions taken in response to the advisories in the established regulatory framework and to implement additional security enhancements which emerged from the NRC's ongoing comprehensive security review.

The Commission has determined that tactical proficiency and physical fitness requirements governing the licensee's armed security force personnel must be enhanced. Therefore, the Commission has determined that certain compensatory measures (CMs) are required to be implemented by licensees as prudent measures to improve tactical and firearms proficiency and physical fitness of the security forces at nuclear power reactor facilities. Therefore, the Commission is imposing requirements, as set forth in Attachment 2 of this Order,¹ on all licensees of these facilities. Pursuant to Section 147 of the Act, the Commission is broadening the scope of information protected under 10 CFR section 73.21(b)(1), and has designated the information in Attachment 2 as Safeguards Information (SGI). The Commission requires that the Safeguards Information be protected and that access to Safeguards Information be limited in accordance with 10 CFR section 73.21. Pursuant to section 147a of the Act, any person, “whether or not a licensee of the Commission, who violates any regulations adopted under this section shall be subject to the civil monetary penalties of section 234 of this Act.” Furthermore, willful violations of any regulation or order governing Safeguards Information is a felony subject to criminal penalties in the form of fines or imprisonment, or both. (See sections 147b and 223 of the Act.) The requirements in Attachment 2, which supplement existing regulatory requirements, will provide the Commission with reasonable assurance that the public health and safety and common defense and security continue to be adequately protected. These requirements will remain in effect until the Commission determines otherwise.

¹ Attachment 2 contains Safeguards Information. Therefore, Attachment 2 will not be released to the public.

Licensees may have already initiated many of the measures set forth in Attachment 2 to this Order in response to previously issued advisories or on their own. Additionally, some measures may need to be tailored to the specific circumstances at the licensee's facility to achieve the intended objectives and avoid any unforeseen effect on safe operation.

In order to provide assurance that licensees are implementing the CMs to achieve a consistent level of protection, all licenses identified in Attachment 1 to this Order shall be modified to include the requirements identified in Attachment 2 to this Order. In addition, pursuant to 10 CFR 2.202, the Commission finds that in the circumstances described above, the public health, safety, and interest require that this Order be effective immediately.

Accordingly, pursuant to sections 103, 104, 161b, 161i, 161o, 182, and 186 of the Act, as amended, and the Commission's regulations in 10 CFR 2.202, and 10 CFR parts 50 and 73, it is hereby ordered, effective immediately, that all licenses identified in attachment 1 to this order are modified as follows:

A. 1. All Licensees shall, notwithstanding the provisions of any Commission regulation or license to the contrary, comply with the requirements described in Attachment 2 to this Order except to the extent that a more stringent requirement is set forth in the licensee's security plan and the security training and qualification plan.

2. The Licensees shall immediately start implementation of the requirements in Attachment 2 to the Order and shall complete implementation, fully training and qualifying all armed security force personnel on the new requirements no later than October 29, 2004.

B. 1. All Licensees shall, within thirty-five (35) days of the date of this Order, notify the Commission (1) if they are unable to comply with any of the requirements described in Attachment 2, (2) if compliance with any of the requirements is unnecessary in their specific circumstances, or (3) if implementation of any of the requirements would cause the Licensee to be in violation of the provisions of any Commission regulation or the facility license. The notification shall provide the Licensee's justification for seeking relief from, or variation of, any specific requirement.

2. Any Licensee that considers that implementation of any of the requirements described in Attachment 2 to this Order would adversely impact safe operation of the facility must notify the Commission, within thirty-five (35) days of the date of this Order, of the adverse safety impact and provide the basis for the Licensee's determination that the requirement has an adverse safety impact and provide either a proposal for achieving the same objectives specified in the Attachment 2 requirement in question or a schedule for modifying the facility to address the adverse safety condition. If neither approach is appropriate, the Licensee must supplement its response to Condition B1 of this Order to identify the condition as a requirement with which it cannot comply, with attendant justifications as required in Condition B1.

C. 1. All Licensees shall, within thirty-five (35) days of the date of this Order, submit to the Commission a schedule for achieving compliance with each requirement described in Attachment 2.

2. All Licensees shall report to the Commission when they have achieved full compliance with the requirements described in Attachment 2.

D. Notwithstanding the provisions of 10 CFR 50.54(p), all measures implemented, or actions taken, in response to this Order shall be maintained until the Commission determines otherwise.

Licensee responses to Conditions B.1, B.2, C.1, and C.2 above shall be submitted in accordance with 10 CFR 50.4. In addition, Licensee submittals that contain Safeguards Information shall be properly marked and handled in accordance with 10 CFR 73.21.

The Director, Office of Nuclear Reactor Regulation, may, in writing, relax or rescind any of the above conditions upon demonstration by the Licensee of good cause.

In accordance with 10 CFR 2.202, the Licensee must, and any other person adversely affected by this Order may, submit an answer to this Order within thirty-five (35) days of the date of this Order, and they may also request a hearing on this Order, within thirty-five (35) days of the date of this Order. Where good cause is shown, consideration will be given to extending the time to request a hearing. A request for extension of time in which to submit an answer or request a hearing must be made in writing to the Director, Office of Nuclear Reactor Regulation, U.S. Nuclear Regulatory Commission, Washington, DC 20555, and include a statement of good cause for the extension. The answer may consent to this Order. Unless the answer consents to this Order, the answer shall, in writing and under oath or affirmation, specifically set forth the matters of fact and law on which the Licensee or other person adversely affected relies and the reasons why the Order should not have been issued. Any answer or request for a hearing shall be submitted to the Secretary, Office of the Secretary of the Commission, U.S. Nuclear Regulatory Commission, ATTN: Rulemakings and Adjudications Staff, Washington, DC 20555. Copies shall also be sent to the Director, Office of Nuclear Reactor Regulation, U.S. Nuclear Regulatory Commission, Washington, DC 20555; to the Assistant General Counsel for Materials Litigation and Enforcement at the same address; to the Regional Administrator for NRC Region I, II, III, or IV, as appropriate for the specific facility; and to the Licensee if the answer or hearing request is by a person other than the licensee. Because of possible disruptions in delivery of mail to U.S. Government offices, it is requested that answers and requests for hearing be transmitted to the Secretary of the Commission either by means of facsimile transmission to 301-415-1101 or by e-mail to hearingdocket@nrc.gov and also to the Office of the General Counsel either by means of facsimile transmission to 301-415-3725 or by e-mail to OGCMailCenter@nrc.gov. If a person other than the licensee requests a hearing, that person shall set forth with particularity the manner in which his interest is adversely affected by this Order and shall address the criteria set forth in 10 CFR 2.714(d).

If a hearing is requested by the Licensee or a person whose interest is adversely affected, the Commission will issue an Order designating the time and place of any hearing. If a hearing is held, the issue to be considered at such hearing shall be whether this Order should be sustained.

Pursuant to 10 CFR 2.202(c)(2)(i), in addition to requesting a hearing, the Licensee may, at the time the answer is filed or sooner, move the presiding officer to set aside the immediate effectiveness of the Order on the ground that the Order, including the need for immediate effectiveness, is not based on adequate evidence but on mere suspicion, unfounded allegations, or error.

In the absence of any request for hearing, or written approval of an extension of time in which to request a hearing, the provisions specified in Section III above shall be final thirty-five (35) days from the date of this Order without further order or proceedings. If an extension of time for requesting a hearing has been approved, the provisions specified in Section III shall be final when the extension expires if a hearing request has not been received. An answer or a request for hearing shall not stay the immediate effectiveness of this order.

For the Nuclear Regulatory Commission.
Dated this 29th day of April 2003.
Samuel J. Collins,
Director, Office of Nuclear Reactor Regulation.

Attachment 1

List of Addressees

Michael R. Higgins, Superintendent of Plant Security, Arkansas Nuclear One, Units 1 & 2, Entergy Operations, Inc., Docket Nos. 50-313 & 50-368, License Nos. DPR-51 & NPF-6, 1448 S.R. 333, Russellville, AR 72802.

Mark Bezilla, Vice President, Beaver Valley Power Station, Units 1 & 2, FirstEnergy Nuclear Operating Company, Docket Nos. 50-334 & 50-412, License Nos. DPR-66 & NPF-73, Route 168, Shippingport, PA 15077-0004.

Gregory Baker, Braidwood Station, Units 1 & 2, Exelon Generation Company, LLC, Docket Nos. STN 50-456 & STN 50-457, License Nos. NPF-72 & NPF-77, 35100 S. Rt. 53, Suite 84, Braceville, IL 60407.

Ashok S. Bhatnagar, Site Vice President, Browns Ferry Nuclear Plant, Units 1, 2, & 3, Tennessee Valley Authority, Docket Nos. 50-259, 50-260 & 50-296, License Nos. DPR-33, DPR-52 & DPR-68, Intersection Limestone Country Roads 20 and 25, Athens, AL 35611.

Allen Brittain, Security Manager, Brunswick Steam Electric Plant, Units 1 & 2, Progress Energy, Docket Nos. 50-325 & 50-324, License Nos. DPR-71 & DPR-62, Hwy 87, 2.5 Miles North, Southport, NC 28461.

David Combs, Byron Station, Units 1 & 2, Exelon Generation Company, LLC, Docket Nos. STN 50-454 & STN 50-455, License Nos. NPF-37 & NPF-66, 4450 N. German Church Road, Byron, IL 61010.

J. Mark Dunbar, Security Manager, Callaway Plant, Unit 1, Ameren Union Electric Company, Docket No. STN 50-483, License No. NPF-30, Highway CC (5 Miles North of Highway 94), Portland, MO 65067.

Vince Williams, Security Programs Specialist, Calvert Cliffs Nuclear Power Plant, Units 1 & 2, Calvert Cliffs Nuclear Power Plant, Inc., Docket Nos. 50-317 & 50-318, License Nos. DPR-53 & DPR-69, 1650 Calvert Cliffs Parkway, Lusby, MD 20657.

G.R. Peterson, Vice President Catawba Site, Catawba Nuclear Station, Units 1 & 2, Duke Power Company, Docket Nos. 50-413 & 50-414, License Nos. NPF-35 & NPF-52, 4800 Concord Road, York, SC 29745.

Ed Wrigley, Security Manager, Clinton Power Station, AmerGen Energy Company, LLC, Docket No. 50-461, License No. NPF-62, Route 54 East, Clinton, IL 61727.

J.V. Parrish, Chief Executive Officer, Columbia Generating Station, Energy Northwest, Docket No. 50-397, License No. NPF-21, Snake River Warehouse, North Power Plant Loop, Richland, WA 99352.

Neil Harris, Comanche Peak Steam Electric Station, Units 1 & 2, TXU Electric & Gas, Docket No. 50-445 & 50-446, License Nos. NPF-87 & NPF-89, FM 56, 5 Miles North of Glen Rose, Glen Rose, TX 76043.

Martin Faulkner, Security Manager, Cooper Nuclear Station, Nebraska Public Power District, Docket No. 50-298, License No. DPR-046, 1200 Prospect Road, Brownville, NE 68321-0098.

Marty Folding, Security Manager, Crystal River Nuclear Generating Plant, Unit 3, Progress Energy, Docket No. 50-302, License No. DPR-72, Crystal River Energy Complex, 15760 West Power Line Street (NAID), Crystal River, FL 34428-6708.

William Mugge, Security Manager, Davis-Besse Nuclear Power Station, FirstEnergy Nuclear Operating Company, Docket No. 50-346, License No. NPF-3, 5501 N. State, Route 2, Oak Harbor, OH 43449.

Ron Todaro, Security Director, Diablo Canyon Nuclear Power Plant, Units 1 & 2, Pacific Gas & Electric Company, Docket Nos. 50-275 & 50-323, License Nos. DPR-80 & DPR-82, 9 Miles Northwest of Avila Beach, Avila Beach, CA 93424.

Garland Gibson, Manager, Site Protective Services, Donald C. Cook Nuclear Plant, Units 1& 2, American Electric Power, Docket Nos. 50-315 & 50-316, License Nos. DPR-58 & DPR-74, 1 Cook Place, Bridgman, MI 49106.

Valheria Gengler, Dresden Nuclear Power Station, Units 2 & 3, Exelon Generation Company, Docket Nos. 50-237 & 50-249, License Nos. DPR-19 & DPR-25, 6500 North Dresden Road, Morris, IL 60450-9765.

Ben Kindred, Security Manager, Duane Arnold Energy Center, Nuclear Management Co., Docket No. 50-331, License No. DPR-49, 3277 DAEC Road, Palo, Iowa 52324.

John R. Thompson, Security Manager, Edwin I. Hatch Nuclear Plant, Unit 1 & 2, Southern Nuclear Operating Company, Inc., Docket Nos. 50-321 & 50-366, License Nos. DPR-57 & NPF-5, Plant E. I. Hatch, U.S. Hwy #1 North, Baxley, GA 31515-2010.

Joe Korte, Nuclear Security Manager, Fermi, Unit 2, Detroit Edison Company, Docket No. 50-341, License No. NPF-43, 6400 N. Dixie Highway, Newport, MI 48166.

John Sefick, Manager, Security & Emergency Planning, Fort Calhoun Station, Omaha Public Power District, Docket No. 50-285, License No. DPR-40, 9750 Power Lane, Blair, NE 68008.

Greg D. Brown, Grand Gulf Nuclear Station, Unit 1, Entergy Operations, Inc., Docket No. 50-416, License No. NPF-29, Bald Hill Road—Waterloo Road, Port Gibson, MS 39150.

Scott Young, Security Superintendent, H.B. Robinson Steam Electric Plant, Unit 2, Carolina Power & Light Company, Docket No. 50-261, License No. DPR-23, 3581 West Entrance Road, Hartsville, SC 29550.

David Thompson, Security Manager, Indian Point Nuclear Generating Station, Units 2 & 3, Entergy Nuclear Operations, Inc., Docket Nos. 50-247 & 50-286, License Nos. DPR-26 & DPR-64, Mail Stop K-IP2-4331, 295 Broadway Suite 1, Buchanan, NY 10511.

J. Haley, Security Manager, James A FitzPatrick Nuclear Power Plant, Entergy Nuclear Operations, Inc., Docket No. 50-333, License No. DPR-59, 268 Lake Road, Lycoming, NY 13093.

Ken Dyer, Site Security Manager, Joseph M. Farley Nuclear Plant, Units 1 & 2, Southern Nuclear Operating Co., Docket Nos. 50-348 & 50-364, License No. NPF-2 & NPF-8, 7388 North Sate Highway 95, Columbia, AL 36319-4120.

Mark Fencl, Security Manager, Kewaunee Nuclear Power Plant, Nuclear Management Co., Docket No. 50-305, License No. DPR-43, N 490 Highway 42, Kewaunee, WI 54216-9510.

Cindy Wilson, LaSalle County Station, Units 1 & 2, Exelon Generation Company, Docket No. 50-373 & 50-374, License Nos. NPF-11 & NPF-18, 2601 North 21st Road, Marseilles, IL 61341-9757.

Peter R. Supplee, Limerick Generating Station, Units 1 & 2, Exelon Generation Company, LLC, Docket No. 50-352 & 50-353, License Nos. NPF-39 & NPF-85, Evergreen & Sanatoga Road, TSC 1-2, Sanatoga, PA 19464.

J. Alan Price, Site Vice President, c/o Mr. David W. Dodson, Millstone Power Station, Units 2 & 3, Dominion Nuclear Connecticut, Inc., Docket Nos. 50-336 & 50-423, License Nos. DPR-65 & NPF-49, Rope Ferry Road, Waterford, CT 06385.

Brian B. Linde, Security Manager, Monticello Nuclear Generating Plant, Nuclear Management Company, Docket No. 50-263, License No. DPR-22, 2807 W. Highway 75, Monticello, MN 55362.

Mr. John T. Conway, Site Vice President, Nine Mile Point Nuclear Station, Units 1 & 2, Nine Mile Point Nuclear Station, LLC, Docket Nos. 50-220 & 50-410, License Nos. DPR-63 & NPF-69, 348 Lake Road, Oswego, NY 13126.

Tim Maddy, Manager, Station Nuclear Security, North Anna Power Station, Units 1 & 2, Virginia Electric & Power Company, Docket Nos. 50-338 & 50-339, License Nos. NPF-4 & NPF-7, 1022 Haley Drive, Mineral, Virginia 23117.

Terry King, Security Manger, Oconee Nuclear Station, Units 1, 2, & 3, Duke Energy Corporation, Docket Nos. 50-269, 50-270 & 50-287, License Nos. DPR-38, DPR-47 & DPR-55, 7800 Rochester Highway, Seneca, SC 29672.

Rick Ewart, Security Manager, Oyster Creek Nuclear Generating Station, AmerGen Energy Company, LLC, Docket No. 50-219, License No. DPR-16, Route 9 South, Forked River, NJ 08731.

Douglas Cooper, Site Vice President, Palisades Plant, Nuclear Management Company, Docket No. 50-255, License No. DPR-20, 27780 Blue Star, Memorial Highway, Covert, MI 49043.

Michael W. Priebe, Dept. Leader-Security Operations, Palo Verde Nuclear Generating, Units 1, 2 & 3, Arizona Public Service Company, Docket Nos. STN 50-528, 50-529 & STN 50-530, License Nos. NPF-41, NPF-51 & NPF-74, 5801 S. Wintersburg Road, Tonapah, Arizona 85354-7529.

Wayne Trump, Manager—Site Security, Peach Bottom Atomic Power Station, Units 2 & 3, Exelon Generation Company, LLC, Docket Nos. 50-277 & 50-278, License Nos. DPR-44 & DPR-56, 1848 Lay Road, Delta, PA 17314.

Thomas Mahon, Security Manager, Perry Nuclear Power, Unit 1, FirstEnergy Nuclear Operating Company, Docket No. 50-440, License No. NPF-58, 10 North Center Street, Perry, OH 44081.

Michael Bellamy, Senior Vice President, Pilgrim Nuclear Power Station, Unit 1, Entergy Nuclear Generation Company, Docket No. 50-293, License No. DPR-35, Rocky Hill Road, Plymouth, MA 02360.

Mark Fencl, Security Manager, Point Beach Nuclear Plant, Units 1 & 2, Nuclear Management Company, Docket Nos. 50-266 & 50-301, License Nos. DPR-24 & DPR-27, 610 Nuclear Road, Two Rivers, WI 54241.

John Waddell, Security Manager, Prairie Island, Units 1 & 2, Nuclear Management Company, Docket No. 50-282 & 50-306, License No. DPR-42 & DPR-60, 1717 Wakonade Drive East, Welch, MN 55089.

Tim Tulon, Site Vice President, Quad Cities Nuclear Power Station, Units 1 & 2, Exelon Generation Company, Docket Nos. 50-254 & 50-265, License Nos. DPR-29 & DPR-30, 22710—206th Ave., North, Cordova, IL 61242.

Ronald C. Teed, Site Security Supervisor, R. E. Ginna Nuclear Power Plant, Rochester Gas & Electric Corporation, Docket No. 50-244, License No. DPR-18, 1503 Lake Road, Ontario, NY 14519.

Andre James, Security Manager, River Bend Station, Entergy Operations, Inc., Docket No. 50-458, License No. NPF-47, 5485 U.S. Highway 61, St. Francisville, LA 70775.

Ted Straub, Manager of Nuclear Security & Fire, Security Center, Salem Nuclear Generating Station, Units 1 & 2, Docket Nos. 50-272 & 50-311, License No. DPR-70 & DPR-75, Hope Creek Generating Station, Unit 1, Docket No. 50-354, License No. NPF-57, PSEG Nuclear LLC, End of Buttonwood Road, Hancocks Bridge, NJ 08038.

John Todd, Manager, Site Security, San Onofre Nuclear Station, Units 2 & 3, Southern California Edison, Docket Nos. 50-361 & 50-362, License Nos. NPF-10 & NPF-15, 5000 Pacific Coast Highway (A82), San Clemente, CA 92674.

James Pandolfo, Security Manager, Seabrook Station, Unit 1, FPL Energy Seabrook, LLC, Docket No. 50-443, License No. NPF-86, Central Receiving, Lafayette Road, Seabrook, NH 03874.

Kenneth Stevens, Security Manager, Sequoyah Nuclear Plant, Units 1 & 2, (OPS5N), Tennessee Valley Authority (TVA), Docket Nos. 50-327 & 50-328, License Nos. DPR-77 & DPR-79, Sequoyah Road, Soddy Daisy, TN 37384.

Denny Braund, Shearon Harris Nuclear Power Plant, Unit 1, Carolina Power & Light Company, Docket No. 50-400, License No. NPF-63, 5413 Shearon Harris Road, New Hill, NC 27562.

William T. Cottle, President & Chief Executive Officer, South Texas Project Electric Generating, Company, Units 1 & 2, STP Nuclear Operating Company, Docket Nos. 50-498 & 50-499, License Nos. NPF-76 & NPF-80, 8 Miles West of Wadsworth, on FM 521, Wadsworth, TX 77483.

Gary L. Varnes, Site Security Manager, St. Lucie Nuclear Plant, Units 1 & 2, Florida Power & Light Company, Docket Nos. 50-335 & 50-389, License Nos. DPR-67 & NPF-16, 6351 South Ocean Drive, Jensen Beach, FL 34957.

Curtis Luffman, Surry Power Station, Units 1 & 2, Virginia Electric & Power Company, Docket Nos. 50-280 & 50-281, License Nos. DPR-32 & DPR-37, 5570 Hog Island Road, Surry, VA 23883-0315.

Roland Ferentz, Manager, Nuclear Security, Susquehanna Steam Electric Station, Units 1&2, Pennsylvania Power and Light Company, Docket Nos. 50-387 & 50-388, License Nos. NPF-14 & NPF-22, 769 Salem Blvd., Berwick, PA 18603.

Michael Bruecks, Three Mile Island Nuclear Station, Unit 1, Amergen Energy Company, LLC, Docket No. 50-289, License No. DPR-50, Route 441 South, Middletown, PA 17057.

William S. Johns, Site Security Supervisor, Turkey Point Nuclear Generating Station, Units 3 & 4, Florida Power & Light Company, Docket Nos. 50-250 & 50-251, License Nos. DPR-31 & DPR-41, 9760 SW 344th Street, Florida City, FL 33035.

Mr. Jay K. Thayer, Site Vice President, Vermont Yankee Nuclear Power Station, Entergy Nuclear Vermont Yankee, LLC, Docket No. 50-271, License No. DPR-28, 185 Old Ferry Road, Brattleboro, VT 05302-0500.

Stephen A. Byrne, Senior Vice President—Nuclear Operations, Virgil C. Summer Nuclear Station, South Carolina Electric & Gas Company, Docket No. 50-395, License No. NPF-12, Hwy 215 N at Bradham Blvd., Jenkinsville, SC 29065.

Doug G. Huyck, Security Manager, Vogtle Electric Generating Plant, Unit 1 & 2, Southern Nuclear Operating Company, Inc., Docket Nos. 50-424 & 50-425, License Nos. NPF-68 & NPF-81, 7821 River Road, Waynesboro, GA 30830.

Joseph E. Venable, Vice President, Operations, Waterford Steam Electric Generating Station, Unit 3, Entergy Operations, Inc., Docket No. 50-382, License No. NPF-38, 17265 River Road, Killona, LA 70066-0751.

Bonnie A. Schnetzler, Security Manager, Watts Bar Nuclear Plant, Unit 1, Tennessee Valley Authority, Docket No. 50-390, License No. NPF-90, Highway 68 Near Spring City, Spring City, TN 37381.

William A. Evans, William B. McGuire Nuclear Station, Units 1 & 2, Duke Energy Corporation, Docket Nos. 50-369 & 50-370, License Nos. NPF-9 & NPF-17, Mail—MG01SC, 12700 Hagers Ferry Road, Huntersville, NC 28078.

David Erbe, Security Manager, Wolf Creek Generating Station, Unit 1, Wolf Creek Nuclear Operating Corporation, Docket No. STN 50-482, License No. NPF-42. 1550 Oten Lane, NE, Burlington, KS 66839.

[FR Doc. 03-11301 Filed 5-6-03; 8:45 am]

BILLING CODE 7590-01-P